DEPARTMENT OF LABOR

Employment and Training Administration

[TA-W-80,260]

Unimin Corporation Including On-Site Leased Workers From Staffmark and Elwood Staffing Aurora, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on July 6, 2011, applicable to workers of Unimin Corporation, including on-site leased workers from Staffmark, Aurora, Indiana. The workers are engaged in activities related to the production of process olivine. Specifically, the workers are engaged in mining operations, processing, and office support functions. The notice was published in the Federal Register on July 29, 2011 (76 FR 45623).

At the request of the State agency, the Department reviewed the certification for workers of the subject firm. New information shows that workers leased from Elwood Staffing were employed on-site at the Aurora, Indiana location of Unimin Corporation. The Department has determined that these workers were sufficiently under the control of Unimin Corporation to be considered leased workers.

The intent of the Department's certification is to include all workers of the subject firm adversely affected by actual/likely increase in imports following a shift abroad.

Based on these findings, the Department is amending this certification to include workers leased from Elwood Staffing working on-site at the Aurora, Indiana location of the subject firm.

The amended notice applicable to TA-W-80,260 is hereby issued as follows:

All workers of Unimin Corporation, including on-site leased workers from Staffmark and Elwood Staffing, Aurora, Indiana, who became totally or partially separated from employment on or after June 27, 2010, through July 6, 2013, are eligible to apply for adjustment assistance under Section 223 of the Trade Act of 1974, and are also eligible to apply for alternative trade adjustment assistance under Section 246 of the Trade Act of 1974.

Signed at Washington, DC, this 20th day of September 2011.
Michael W. Jaffe,
Certifying Officer, Office of Trade Adjustment Assistance.

[FR Doc. 2011-25709 Filed 10-4-11; 8:45 am]

BILLING CODE 4510-FN-P